DEPARTMENT OF TRANSPORTATION

Federal Aviation Administration

14 CFR Part 39

[Docket No. FAA-2018-0336; Product Identifier 2017-SW-130-AD; Amendment 39-19588; AD 2019-05-06]

RIN 2120-AA64

Airworthiness Directives; Airbus Helicopters Deutschland GmbH Helicopters

AGENCY: Federal Aviation Administration (FAA), DOT.

ACTION: Final rule.

SUMMARY: We are adopting a new airworthiness directive (AD) for Airbus Helicopters Deutschland GmbH (Airbus Helicopters) Model EC135P1, EC135P2, EC135P2+, EC135P3, EC135T1, EC135T2, EC135T2+, and EC135T3 helicopters. This AD requires replacing the retaining ring and inspecting the hoist cable hook assembly (hook). This AD was prompted by a report that a hook detached from the hoist cable. The actions of this AD are intended to address an unsafe condition on these products.

DATES: This AD is effective April 17, 2019.

The Director of the Federal Register approved the incorporation by reference of a certain document listed in this AD as of April 17, 2019.

ADDRESSES: For service information identified in this final rule, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177. It is also available on the internet at http://www.regulations.gov by searching for and locating Docket No. FAA-2018-0336.

Examining the AD Docket

You may examine the AD docket on the internet at http://www.regulations.gov by searching for and locating Docket No. FAA-2018-0336; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: David Hatfield, Aviation Safety Engineer, Safety Management Section, Rotorcraft Standards Branch, FAA, 10101 Hillwood Pkwy., Fort Worth, TX 76177; telephone (817) 222-5110; email david.hatfield@faa.gov.

SUPPLEMENTARY INFORMATION:

Discussion

On September 7, 2018 at 83 FR 45364, the Federal Register published our notice of proposed rulemaking (NPRM), which proposed to amend 14 CFR part 39 by adding an AD that would apply to Airbus Helicopters Model EC135P1, EC135P2, EC135P2+, EC135P3, EC135T1, EC135T2, EC135T2+, and EC135T3 helicopters. The NPRM proposed to require, within 90 hours time-in-service (TIS) and thereafter at intervals not to exceed 180 hours TIS, replacing the retaining ring and inspecting the elastomeric energy absorber for a permanent compression set, and if necessary, replacing the elastomeric energy absorber before the next hoist operation. The proposed requirements were intended to prevent detachment of a hook from a hoist cable resulting in in-flight failure of the hoist, which could result in injury to persons being lifted.

The NPRM was prompted by AD No. 2017-0199, dated October 11, 2017, issued by EASA, which is the Technical Agent for the Member States of the European Union, to correct an unsafe condition for Airbus Helicopters Model EC135P1, EC135P2, EC135P2+, EC135P3, EC135T1, EC135T2, EC135T2+, EC135T3, EC635P2+, EC635P3, EC635T1, EC635T2+, and EC635T3 helicopters. EASA advises of a report of a hook separating from the hoist cable. According to EASA, an investigation determined that failure of the internal retaining ring combined with a permanent compression set of the elastomeric energy absorber caused the separation. EASA states that this condition, if not corrected, could lead to the detachment of an external load or person from the hoist, possibly resulting in personal injury or injury to persons on the ground. The EASA AD consequently requires repetitive inspections of the hook assembly and replacement of the retaining ring.

EASA considers its AD an interim measure and states that further AD action may follow.

Comments

We gave the public the opportunity to participate in developing this AD, but we did not receive any comments on the NPRM.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Interim Action

We consider this AD to be an interim action. The design approval holder is currently developing a modification that will address the unsafe condition identified in this AD. Once this modification is developed, approved, and available, we might consider additional rulemaking.

Differences Between This AD and the EASA AD

The EASA AD requires corrective actions in terms of months in service. This AD requires compliance within 90 hours TIS and thereafter at intervals not to exceed 180 hours TIS. The EASA AD applies to Airbus Helicopters Model EC635P2+, EC635P3, EC635T1, EC635T2+, and EC635T3 helicopters. This AD does not because these model helicopters have no FAA type certificate.

Related Service Information Under 1 CFR Part 51

We reviewed Goodrich Service Bulletin No. 44301-10-17, Revision 4, dated July 26, 2017 (SB 44301-10-17). SB 44301-10-17 is attached as an appendix to Airbus Helicopters Alert Service Bulletin No. ASB EC135-85A-069, Revision 0, dated August 2, 2017 (ASB EC135-85A-069). SB 443301-10-17 is incorporated by reference in this AD. ASB EC135-85A-069 is not incorporated by reference in this AD. This service information specifies an initial and repetitive inspections of the hook assembly and replacement of the retaining ring. If the inspections of elastomeric energy absorber detect a permanent compression set, this service information also specifies replacing the elastomeric energy absorber.

This service information is reasonably available because the interested parties have access to it through their normal course of business or by the means identified in the ADDRESSES section.

Costs of Compliance

We estimate that this AD affects 278 helicopters of U.S. Registry. We estimate that operators may incur the following costs in order to comply with this AD. Labor costs are estimated at $85 per work-hour.

Inspecting the hoist cable hook assembly and replacing the retaining ring requires 0.5 work-hour and parts are minimal for an estimated cost of $43 per helicopter and $11,954 for the U.S. fleet per inspection cycle. Replacing an elastomeric energy absorber requires 0.5 work-hour and parts cost $2,152 for an estimated cost of $2,195 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-05-06 Airbus Helicopters Deutschland GmbH: Amendment 39-19588; Docket No. FAA-2018-0336; Product Identifier 2017-SW-130-AD.

(a) Applicability

This AD applies to Airbus Helicopters Deutschland GmbH Model EC135P1, EC135P2, EC135P2+, EC135P3, EC135T1, EC135T2, EC135T2+, and EC135T3 helicopters, certificated in any category, with an external mounted hoist (hoist) part number (P/N) and hook assembly (hook) P/N shown in Table 1 to paragraph (a) of this AD:

Table 1 to Paragraph (a)
Hoist P/Ns | Hook P/Ns
44301-10-2 | 44301-420
44301-10-5 | 44301-420
44301-10-6 | 44301-420
44301-10-10 | 44301-423
44301-10-11 | 44301-423
44301-10-12 | 44301-423
44301-10-13 | 44301-423

(b) Unsafe Condition

This AD defines the unsafe condition as detachment of a hook from a hoist cable resulting in in-flight failure of the hoist, which could result in injury to persons being lifted.

(c) Effective Date

This AD becomes effective April 17, 2019.

(d) Compliance

You are responsible for performing each action required by this AD within the specified compliance time unless it has already been accomplished prior to that time.

(e) Required Actions

Within 90 hours time-in-service (TIS) and thereafter at intervals not to exceed 180 hours TIS:

(1) Inspect the hook and determine whether the elastomeric energy absorber has taken a permanent compression set by following the Accomplishment Instructions, paragraphs 2.A and 2.B, of Goodrich Service Bulletin No. 44301-10-17, Revision 4, dated July 26, 2017 (SB 44301-10-17). If the elastomeric energy absorber has taken a permanent compression set, replace the elastomeric energy absorber before the next hoist operation.

(2) Replace the retaining ring by following the Accomplishment Instructions, paragraphs 2.D through 2.K, of SB 44301-10-17.

(f) Special Flight Permits

Special flight permits may be permitted provided the hoist is not used.

(g) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Airbus Helicopters Alert Service Bulletin No. ASB EC135-85A-069, Revision 0, dated August 2, 2017, which is not incorporated by reference, contains additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy, Room 6N-321, Fort Worth, TX 76177.

(2) The subject of this AD is addressed in European Aviation Safety Agency (EASA) AD No. 2017-0199, dated October 11, 2017. You may view the EASA AD on the internet at http://www.regulations.gov in Docket No. FAA-2018-0336.

(i) Subject

Joint Aircraft Service Component (JASC) Code: 2500, Cabin Equipment/Furnishings.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Goodrich Service Bulletin No. 44301-10-17, Revision 4, dated July 26, 2017.

Note 1 to paragraph (j)(2)(i): Goodrich Service Bulletin No. 44301-10-17, Revision 4, dated July 26, 2017, is attached to Airbus Helicopters Alert Service Bulletin No. EC135-85A-069, Revision 0, dated August 2, 2017, which is not incorporated by reference in this AD.

(ii) [Reserved]

(3) For Goodrich service information identified in this AD, contact Airbus Helicopters, 2701 N Forum Drive, Grand Prairie, TX 75052; telephone (972) 641-0000 or (800) 232-0323; fax (972) 641-3775; or at http://www.helicopters.airbus.com/website/en/ref/Technical-Support_73.html.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on March 1, 2019.
Lance T. Gant,
Director, Compliance & Airworthiness Division, Aircraft Certification Service.

[FR Doc. 2019-04532 Filed 3-12-19; 8:45 am]

BILLING CODE 4910-13-P